DEPARTMENT OF COMMERCE

Office of the Secretary

[Agency Docket Number: 080402504-8505-01]

Availability of Fleet Alternative Fuel Vehicle Report for Fiscal Year 2007

AGENCY: Office of the Secretary, Commerce.

ACTION: Notice of availability of report.

SUMMARY: In compliance with the Energy Policy Act of 1992, this notice announces the availability of the Department of Commerce's (DOC) alternative fuel vehicle (AFV) report for fiscal year 2007 for its agency fleet. This report includes data concerning DOC's efforts to reduce energy consumption.

ADDRESSES: U.S. Department of Commerce, Office of the Chief Financial Officer and Assistant Secretary for Administration, Office of Administrative Services, 1401 Constitution Avenue, NW., Room 6316, Washington, DC 20230.

FOR FURTHER INFORMATION CONTACT: Eston Lewis or e-mail elewis3@doc.gov.

SUPPLEMENTARY INFORMATION:

Authority: Public Law 102-486, Title III, Sec. 310. Oct. 24, 1992, 106 Stat. 2874.

The Energy Policy Act of 1992 (Pub. L. 102-486, 42 U.S.C. 13211-13219) (EPAct), requires that AFV reports for FY 1999 and beyond be made public, including placement of the reports on the DOC Web site and announcement of the availability of the reports in the Federal Register. Pursuant to the EPAct, this notice serves as the DOC's official announcement of the availability of the AFV report for FY 2007. DOC's AFV report for FY 2007 is available on the internet at http://www.osec.doc.gov/oas/ppmd/ppmd/afv.htm. The AFV report contains information pertaining to planned acquisitions and projections for FY 2008 and FY 2009. EPAct requires that seventy-five percent of all covered, light-duty vehicles acquired for Federal fleets in FY 1999 and beyond be AFVs. In FY 2007, the DOC exceeded the seventy-five percent acquisition requirement.

Fred E. Fanning,
Director for Administrative Services.

[FR Doc. E8-8855 Filed 4-22-08; 8:45 am]

BILLING CODE 3510-03-P